DEPARTMENT OF LABOR

Employment and Training Administration

[TA-W-64,140]

Wellman, Inc.; Johnsonville, SC; Notice of Termination of Investigation

Pursuant to Section 221 of the Trade Act of 1974, as amended, an investigation was initiated on September 30, 2008 in response to a petition filed by a company official on behalf of workers of Wellman, Inc., Johnsonville, South Carolina.

The workers of Wellman, Inc., Johnsonville, South Carolina are covered by an active certification, (TA-W-60,395) which expires on December 4, 2008. Consequently, further investigation would serve no purpose, and the investigation has been terminated.

Signed at Washington, DC, this 15th day of October 2008.
Elliott S. Kushner,
Certifying Officer, Division of Trade Adjustment Assistance.

[FR Doc. E8-25459 Filed 10-24-08; 8:45 am]

BILLING CODE 4510-FN-P